DEPARTMENT OF HOUSING AND URBAN DEVELOPMENT

[Docket No. FR-7092-N-14]

Privacy Act of 1974; System of Records

AGENCY: Office of Housing, HUD.

ACTION: Notice of a rescindment of a system of records.

SUMMARY: Pursuant to the provisions of the Privacy Act of 1974, as amended, the Department of the Housing and Urban Development (HUD), the Office of Housing, the Office of Lender Activities and Program Compliance is issuing a public notice of its intent to rescind the Institution Master File (IMF) System, because the system was decommissioned effective June 1, 2017.

DATES: Comments will be accepted on or before February 29, 2024. This proposed action will be effective immediately upon publication.

ADDRESSES: You may submit comments, identified by one of the following methods:

Federal e-Rulemaking Portal: https://www.regulations.gov. Follow the instructions provided on that site to submit comments electronically.

Fax: 202-619-8365.

Email: www.privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov including any personal information provided.

Docket: For access to the docket to read background documents or comments received go to https://www.regulations.gov.

FOR FURTHER INFORMATION CONTACT: LaDonne White, Chief Privacy Officer; 451 Seventh Street SW, Room 10139; Washington, DC 20410-0001; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Institution Master File (IMF) System formerly maintained a file of institutions (Title I lenders and Title II mortgagees) which have been approved by HUD to participate in the Federal Housing Administration (FHA) Mortgage Insurance Programs. The principal objective of the IMF was to consolidate information on the approval status of mortgagees and lenders participating in FHA's insurance program. The Leader Electronic Assessment Portal (LEAP) has replaced IMF's role as the system of records and IMF no longer processes lender institution information. The active records for IMF were transferred to LEAP. Any records past its retention time were sent to the Records Warehouse.

SYSTEM NAME AND NUMBER:

Institution Master File (IMF).

HISTORY:

The previously published notice in the Federal Register [Docket Number FR-5291-N-05], on August 25, 2009, at 74 FR 42910.

Ladonne White,
Chief Privacy Officer, Office of Administration.

[FR Doc. 2024-01766 Filed 1-29-24; 8:45 am]

BILLING CODE 4210-67-P